DEPARTMENT OF THE INTERIOR

National Park Service

National Register of Historic Places; Notification of Pending Nominations

Nominations for the following properties being considered for listing in the National Register were received by the National Park Service before January 17, 2004.

Pursuant to § 60.13 of 36 CFR part 60 written comments concerning the significance of these properties under the National Register criteria for evaluation may be forwarded by United States Postal Service, to the National Register of Historic Places, National Park Service, 1849 C St. NW, 2280, Washington, DC 20240; by all other carriers, National Register of Historic Places, National Park Service, 1201 Eye St. NW., 8th floor, Washington DC 20005; or by fax, (202) 371-6447. Written or faxed comments should be submitted by February 26, 2004.

Carol D. Shull,
Keeper of the National Register of Historic Places.

CALIFORNIA

Humboldt County

Falk Historic District, Address Restricted, Eureka, 04000067

COLORADO

Prowers County

Holly SS Ranch Barn, 407 West Vinson, Holly, 04000068

ILLINOIS

Champaign County

Kappa Kappa Gamma Sorority House, (Fraternity and Sorority Houses at the Urbana-Champaign Campus of the University of Illinois MPS) 1102 S. Lincoln Ave., Urbana, 04000074

Phi Delta Theta Fraternity House, (Fraternity and Sorority Houses at the Urbana-Champaign Campus of the University of Illinois MPS) 309 E. Chalmers St., Champaign, 04000070

Cook County

Maynard, Isaac N., Rowhouses, (Land Subdivisions with Set-Aside Parks, Chicago, IL MPS) 119,121,123 W. Delaware Place, Chicago, 04000077

Schorsch Irving Park Gardens Historic District, (Chicago Bungalows MPS) Roughly bounded by Grace St., Patterson Ave., N. Austin Ave., and N. Melvena Ave., Chicago, 04000075

South Park Manor Historic District, (Chicago Bungalows MPS) Roughly bounded by S. King Dr., S. State St., 75th St. and 79th St., Chicago, 04000076

Logan County

Downey Building, 110-112 Southwest Arch St., Atlanta, 04000069

KANSAS

Franklin County

Pleasant Valley School District #2, 2905 Thomas Rd., Wellsville, 04000078

Johnson County

Ensor Farm, 18995 W. 183rd St., Olathe, 04000079

KENTUCKY

Jessamine County

Brownwood Farm, 5655 Harrodsburg Rd., Nicholasville, 04000073

LOUISIANA

Concordia Parish

Concordia Parish Courthouse, 405 Carter St., Vidalia, 04000081

Jefferson Davis Parish

Camp Hamilton House, (Louisiana's French Creole Architecture MPS) 2200 E. Academy Ave., Jennings, 04000072

Lafourche Parish

Bayou Boeuf Elementary School, 4138 LA 307, Thibodaux, 04000082

St. Landry Parish

Plaisance School, 3264 LA 167, Plaisance, 04000080

Vernon Parish

Kurth, Joseph H., Jr. House, 351 LA 465, Leesville, 04000071

MASSACHUSETTS

Barnstable County

Waquoit Historic District, Roughly bounded by Childs R., Carriage Shop Rd., Waquoit Hwy., Moonakis R., Moonakis Rd., Waquoit Bay, Waquoit Lndng., Falmouth, 04000086

Franklin County

Bissell Bridge, Heath Rd., MA 8A over Mill Brook, Charlemont, 04000083

Hampshire County

Center Cemetery, Sam Hill Rd., Worthington, 04000084

Suffolk County

Haskell, Edward H., Home for Nurses, 220 Fisther Ave., 63 Parker Hill Ave., Boston, 04000085

MISSISSIPPI

Grenada County

Yalobusha Line Defensive Trench, Address Restricted, Grenada, 04000087

MISSOURI

Lafayette County

Hicklin School, MO 24, Lexington, 04000088

St. Louis County

Greenwood Cemetery, 6571 St. Louis Ave., Hillsdale, 04000090

St. Louis Independent City

Seven-Up Company Headquarters, 1300-16 Convention Plaza (Formerly Delmar), St. Louis (Independent City), 04000089

NEW YORK

Chenango County

District School 2, Cty Rte 27, Coventryville, 04000096

Herkimer County

Snells Bush Church and Cemetery, Snells Bush Rd., Manheim, 04000092

Otsego County

Fly Creek Grange No. 844, 208 Cemetery Rd., Fly Creek, 04000097

Kenyon Residences, 60 and 62 Main St., Mt. Vision, 04000093

Rensselaer County

Earl, Gardner, Memorial Chapel and Crematorium, 50 101st St., Troy, 04000091

Westchester County

Peekskill Downtown Historic District, Main, Division, South, Park, Bank, Brown, First and Esther Sts., Central and Union Aves., Peekskill, 04000095

St. Peter's Church, Old, and Old Cemetery at Van Cortlandtville, Oregon Rd. at Locust Ave., Van Cortlandtville, 04000094

OHIO

Richland County

Rock Road Bridge, Former Erie Railroad over Rock Rd., Ontario, 04000062

PENNSYLVANIA

Clarion County

Sutton—Ditz House, 18 Grant St., Clarion, 04000063

Luzerne County

Luzerne County Fresh Air Camp, Middle Rd., approx. 0.25 mi. NE of jct. of Middle Rd. and PA 3021, Butler Township, 04000064

Montgomery County

Breyer, Henry W., Sr., House, 8230 Old York Rd., Eilkins Park, Cheltenham, 04000065

TEXAS

Brown County

Fisk, Greenleaf, House, 418 Milton Ave., Brownwood, 04000103

Comal County

Gruene Historic District (Boundary Increase), Gruene Rd. W. from Sequin St. to the W side of Gruene Bridge, New Braunfels, 04000066

Cooke County

Bomar, E.P. and Alice, House, 417 S. Denton St., Gainesville, 04000099

Dallas County

Harlan Building, 2018 Cadiz St., Dallas, 04000102

Harrison County

Todd—McKay—Wheat House, 506 W. Burleson St., Marshall, 04000101

Live Oak County

Live Oak County Jaoil, Public square in Oakville, Oakville, 04000098

Presidio County

Building 98, Fort D.A. Russell, West Bonnie St., Marfa, 04000100

VIRGINIA

Arlington County

Lee Gardens North Historic District, (Garden Apartments, Apartment Houses and Apartment Complexes in Arlington County, Virginia MPS), 2300-2341 N. 11th St., Arlington, 04000109

Penrose Historic District, Roughly bounded by Arlington Blvd., S. Courthouse Rd., S. Fillmore St., S. Barton St. S, and Columbia Pike, Arlington, 04000112

Stratford Junior High School, 4100 Vacation Ln., Arlington, 04000110

Waverly Hills Historic District, Roughly bounded by 20th Rd. N, N. Utah St, I-66, N. Glebe Rd. and N. Vermont St., Arlington, 04000111

Pittsylvania County

Hill Grove School, 2580 Wards Rd., Hurt, 04000104

Staunton Independent City

Cobble Hill Farm, 101 Woodlee Rd., Staunton, 04000105

WISCONSIN

Columbia County

Columbus Fireman's Park Complex, 1049 Park Ave., Columbus, 04000106

Kenosha County

Isermann, Anthony and Caroline, House, 6416 Seventh Ave., Kenosha, 04000108

Isermann, Frank and Jane, House, 6500 Seventh Ave., Kenosha, 04000107

A request for comment is made for the following:

The National Historic Landmarks Survey program has completed a draft theme study entitled “The Earliest Americans Theme Study for the Eastern United States.” The draft study is available for review and comment until February 26, 2004, at http://www.cr.nps.gov/nhl/design/REALEA2.wpd. You will need to enter a username (crweb) and password ($yeap77). You may also contact Erika Martin Seibert by phone at (202) 354-2217, or through e-mail at erika_seibert@nps.gov for questions about the document.

A request for removal has been made for the following resources:

KANSAS

Allen County

Schleichers Branch Stone Arch Bridge (Masonry Arch Bridges in Kansas TR) Unnamed Rd. over Slack Cr. Humboldt vicinity, 95000620

Cowley County

Gladstone Hotel, N. Summit St., Arkansas City vicinity, 83000422

Reno County

Plevna General Store, 3rd and Main, Plevna, 88002968

Rooks County

Thomas Barn, NE of Woodston, near Osborne Co. Line, Woodston vicinity, 91001104

WISCONSIN

Waukesha County

Friederich Farmstead Historic District, N96 W15009 County Line Rd., Menomonee Falls, 88001631

[FR Doc. 04-2903 Filed 2-10-04; 8:45 am]

BILLING CODE 4312-51-P